DEPARTMENT OF AGRICULTURE

National Agricultural Statistics Service

Notice of Intent To Request To Conduct a New Information Collection

AGENCY: National Agricultural Statistics Service, USDA.

ACTION: Notice and request for comments.

SUMMARY: In accordance with the Paperwork Reduction Act of 1995 this notice announces the intention of the National Agricultural Statistics Service (NASS) to seek approval to conduct a new information collection consisting of two questionnaires, the Quarterly Colony Loss Survey and the Annual Colony Loss Survey.

DATES: Comments on this notice must be received by December 29, 2014 to be assured of consideration.

ADDRESSES: You may submit comments, identified by docket number 0535-NEW, by any of the following methods:

• Email: ombofficer@nass.usda.gov. Include docket number above in the subject line of the message.

• eFax: (855) 838-6382.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: Renee Picanso, Associate Administrator, National Agricultural Statistics Service, U.S. Department of Agriculture, (202) 720-2707. Copies of this information collection and related instructions can be obtained without charge from David Hancock, NASS Clearance Officer, at (202) 690-2388.

SUPPLEMENTARY INFORMATION:

Title: Pollinator Surveys.

OMB Control Number: 0535-NEW.

Type of Request: Intent to seek approval to conduct a new information collection for a period of three years.

Abstract: The primary objective of the National Agricultural Statistics Service (NASS) is to prepare and issue state and national estimates of crop and livestock production, prices, and disposition; as well as economic statistics, environmental statistics related to agriculture and also to conduct the Census of Agriculture.

Pollinators (honeybees) are vital to the agricultural industry for producing food for the world's population. Ad hoc surveys showed a dramatic rise in the number of disappearances of honeybee colonies in North America in late 2006; disappearances ranged from 10-15 percent annual colony loss in some areas to greater than 30 percent in other areas. Often called Colony Collapse Disorder (CCD), the condition occurs when worker bees from a beehive or a European honeybee colony abruptly disappear, with minimal mortality evident near the hive and an intact queen and food supply readily available. European beekeepers observed similar phenomena in Belgium, France, the Netherlands, Greece, Italy, Portugal, and Spain, and initial reports have also come in from Switzerland and Germany, albeit to a lesser degree, while the Northern Ireland Assembly received reports of a decline greater than 50 percent. The mechanisms of CCD and the reasons for its apparent increasing prevalence remain unclear. The likely combination of factors includes: Infections with Varroa mites and other pathogens and viruses; pesticides, such as the neonicotinoid class; inadequate nutrition and loss of natural forage habitat; genetic factors; and changing beekeeping practices and stress on colonies from transportation.

The collapse of honeybee colonies is significant economically because many agricultural crops worldwide are pollinated by European honeybees. According to the Agriculture and Consumer Protection Department of the United Nations Food and Agriculture Organization, the worth of global crops with honeybee pollination was estimated to be close to $200 billion in 2005. Shortages of honeybees in the United States have led to substantial increases in the cost to farmers renting them for pollination services. USDA and the Environmental Protection Agency (EPA), in consultation with other relevant Federal partners, are scaling up efforts to address the decline of honeybee health with a goal of ensuring the recovery of this critical subset of pollinators. NASS supports this USDA-EPA CCD National Action Plan, which emphasizes the importance of coordinated action to identify the extent and causal factors in honeybee and pollinator declines.

To efficiently collect critical information on the status and health of the commercial honeybee population, NASS proposes two new surveys that complement its existing Bee and Honey Inquiry (0535-0153), which targets bee keepers with 5 or more colonies. The Colony Loss Quarterly Survey will be administered quarterly to a subsample of bee keepers responding to the annual Bee and Honey Inquiry. The Colony Loss Annual Survey will be administered to bee keepers with fewer than 5 colonies; these respondents will be asked to report quarterly honeybee colony losses on an annual basis. Together, these surveys will yield the number of honeybee colonies that are comparable in methodology to the Census of Agriculture counts (which is available only every 5 years). The data collected will include state of colony residence, the commercial movement of colonies between states, newly added or replacement colonies, colony losses, and presence of colony stress factors, such as pests or parasites.

The Colony Loss Surveys are strongly encouraged by beekeepers, the National Academy of Sciences, and the USDA Office of the Inspector General. This action will provide an improved baseline, annual, and quarterly data to describe any loss or change in the number of colonies and issues and practices which may be associated with colony stress and decline.

NASS is committed to collaborating with USDA and the other departments on a unified and complementary approach to develop and support the Pollinator Health Initiative. This will allow NASS and its collaborators to address critical information needs at an accelerated pace and guide honeybee management at a national scale.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995 (Pub. L. 104-113) and the Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33376.

Estimate of Burden: Public reporting burden for this collection of information is estimated to average 10 minutes per response. Publicity materials and instruction sheet will account for 5 minutes of additional burden per respondent. Respondents who refuse to complete a survey will be allotted 2 minutes of burden per attempt to collect the data. NASS plans to conduct two different surveys as a part of this approval request. Once a year, NASS will contact approximately 20,000 small bee operations (fewer than 5 colonies). Approximately 3,300 operations with 5 or more bee colonies will be contacted quarterly to collect bee loss data. NASS will conduct the surveys initially using a mail and internet approach. This will be followed up with phone and personal enumeration for non-respondents. NASS will attempt to obtain an 80% response rate.

Respondents: Farmers and beekeepers.

Estimated Number of Respondents: 23,300.

Estimated Total Annual Burden on Respondents: With an estimated response rate of approximately 80%, we estimate the burden to be 7,020 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, October 15, 2014.
R. Renee Picanso,
Associate Administrator.

[FR Doc. 2014-25609 Filed 10-27-14; 8:45 am]

BILLING CODE 3410-20-P